DEPARTMENT OF JUSTICE

Notice of Lodging of Proposed Consent Decree Under the Comprehensive Environmental Response, Compensation, and Liability Act

On December 20, 2021, the Department of Justice lodged a proposed Consent Decree with the United States District Court for the Northern District of Illinois in the lawsuit entitled United States v. H. Kramer & Co., et al., Case No. 1:21-cv-6749.

The United States filed a Complaint in this lawsuit under Section 107 of the Comprehensive Environmental Response, Compensation, and Liability Act, 42 U.S.C. 9607. The Complaint seeks reimbursement of more than $2.189 million in costs that the U.S. Environmental Protection Agency (“EPA”) incurred for environmental cleanup-related response activities relating to the Pilsen Area Soil Site in Chicago, Illinois. The three defendants in the lawsuit are H. Kramer & Co., BNSF Railway Company, and the City of Chicago.

When the Complaint was filed, the United States also lodged a proposed Consent Decree that would settle the claims asserted in the Complaint on agreed terms and conditions. The defendants would pay the United States a total of $1.95 million in settlement of the United States' claims for recovery of EPA's unreimbursed past costs.

The publication of this notice opens a period for public comment on the proposed Consent Decree. Comments should be addressed to the Assistant Attorney General, Environment and Natural Resources Division, and should refer to United States v. H. Kramer & Co., et al., D.J. Ref. No. 90-11-3-12477. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $5.75 (25 cents per page reproduction cost) payable to the United States Treasury.

Patricia A. McKenna,
Assistant Section Chief, Environmental Enforcement Section, Environment and Natural Resources Division.

[FR Doc. 2021-27879 Filed 12-22-21; 8:45 am]

BILLING CODE 4410-15-P